DEPARTMENT OF DEFENSE

Department of the Air Force

Notice of Intent To Prepare a Supplemental Environmental Impact Statement for the Military Housing Privatization Initiative at Eglin AFB, Florida and Hurlburt Field, Florida

AGENCY: United States Air Force, Air Force Materiel Command, Air Force Special Operations Command.

ACTION: Notice of Intent.

SUMMARY: Pursuant to the National Environmental Policy Act of 1969 (NEPA, 42 United States Code [USC] 4321-4347), the Council on Environmental Quality (CEQ) NEPA Regulations (40 Code of Federal Regulations [CFR] Parts 1500-1508), and the United States Air Force's (Air Force) Environmental Impact Analysis Process (EIAP, 32 CFR Part 989), the Air Force is issuing this notice to advise the public of its intent to prepare a Supplemental Environmental Impact Statement (SEIS) for the Military Housing Privatization Initiative (MHPI) at Eglin AFB, Florida and Hurlburt Field, Florida.

This NOI describes the Air Force's proposed alternatives, scoping process, and identifies the Air Force's point of contact. As part of the SEIS, the Air Force will analyze potential environmental impacts associated with the alternatives for the MHPI, including a No Action Alternative. This is the fourth revision to the SEIS, which will describe the changes in the alternative development process used to identify potential parcels of land for the MHPI, consider F-35 aircraft noise profiles, identify new alternatives resulting from this process, and identify the potential impacts to the affected environment from MHPI.

Purpose: The purpose of this action is for the Air Force to implement the MHPI by leveraging private sector funds, expertise, and efficiency with Air Force resources (land and residences). The Air Force would “privatize” its military family housing assets (those currently owned and operated by the government as opposed to leased housing) to accelerate the improvement and availability of housing for military families.

Proposed Action: To obtain 1,477 military family housing units through some mixture of parcels from the five alternatives listed below plus the Hurlburt Field parcels. To implement the MHPI, the Air Force's proposed action includes the conveyance of all 1,413 existing military family housing units and infrastructure distributed among several parcels of land located on Eglin AFB and Hurlburt Field to a private developer.

Of the existing units, the private developer would demolish 1,404, renovate units in place, and accept the Air Force's conveyance of nine existing historic units “as is.” The private developer would construct 1,477 new units (548 units for Hurlburt Field and 929 units for Eglin AFB) in phases and return nine historic units (five historic units located at Georgia Avenue on Eglin AFB and four historic units at Camp Pinchot) to the Air Force for adaptive reuse for purposes other than residential housing (e.g., offices, meeting places, etc.) once replacement units are constructed. At completion of the project, a private developer would own and operate 1,477 military family housing units (548 units for Hurlburt Field and 929 units for Eglin AFB) on behalf of the Air Force.

All construction and demolition activities would occur on Air Force-owned property at Eglin AFB and Hurlburt Field. The Air Force would lease the real property underlying the current units to the private developer. For areas not designated for rebuilding, this lease would last only until demolition is complete or once replacement units are built (in the case of the historic units), at which time the property would be returned to the Air Force. For areas designated for rebuilding, renovation, or conveyance as is, the real property would be leased to the private developer for a period of 50 years from the date of the transaction. In addition, the existing Hurlburt Field FAMCAMP area would relocate as part of this proposed action.

Alternatives: Activities described under the Proposed Action, including construction of housing on Hurlburt Field, would be common across all alternatives, except the No Action Alternative. The alternatives for MHPI differ in the distribution of the housing. The following locations are being considered:

Alternative 1. Crestview Park/Duke Field Area consists of two parcels totaling 567 acres. The area is located approximately one mile northwest of Duke Field, just south of the Yellow River along the northern border of the Eglin Reservation.

Alternative 2. Eglin Northeast Area comprises four parcels totaling 2,458 acres. The area is located approximately one mile southeast of Mossy Head, Florida, right inside the northeastern Eglin Reservation border.

Alternative 3. White Point Area comprises seven parcels totaling 416 acres. The area is located at White Point along the coastline of Choctawhatchee Bay south of Niceville, Florida, and adjacent to SR-20.

Alternative 4. Eglin Main Base/Valparaiso Area comprises eight parcels totaling 695 acres. The largest parcel (620 acres) is located in the southwest corner of Eglin Main Base adjacent to the New Plew housing area. The remaining parcels are located along the northeast border of Eglin Main Base, near the East Gate and adjacent to Valparaiso.

Alternative 5. North Fort Walton Beach Area comprises five parcels totaling 457 acres with a 50 acre buffer area. Three parcels were previously identified in MHPI NEPA documentation as the “Camp Pinchot Expansion Area” (located adjacent to the Camp Pinchot Historic District and bordered on the west by SR-189 and the east by Garnier Bayou) and parts of the “Poquito Bayou Expansion Area” (located just north of the existing Poquito Bayou housing area). The remaining two parcels are located along the southern Eglin Reservation boundary in north Fort Walton Beach just north of SR-189 and adjacent to the Okaloosa County Fairgrounds. The Camp Pinchot Historic District is not included in this alternative.

No Action Alternative. The Air Force would not implement the Proposed Action at Eglin or Hurlburt Field. Instead, the Air Force would continue to manage/maintain and replace/upgrade MFH in accordance with existing Air Force policy and resources.

Background: This document constitutes the fourth revision of an EIS that started with a Notice of Intent in January 2004 (Federal Register/Vol. 69, No. 116, pg. 3570/January 26, 2004). The first iteration of the Draft EIS was published and released to the public in April 2005 (Federal Register/Vol. 70, No. 67, pg. 17994/April 8, 2005). After consideration of concerns raised during the public comment period, the Air Force issued the second iteration, the Revised Draft EIS in March 2006 (Federal Register/Vol. 71, No. 62, pg. 16302/March 31, 2006), which received public and agency comments. Before the EIS was finalized, circumstances arose causing the Air Force to halt the completion of the EIS and reevaluate the Proposed Action.

The 2005 Base Closure and Realignment (BRAC) decisions resulted in the direction to beddown the Joint Strike Fighter (JSF) (i.e., the F-35 aircraft) and the Army's 7th Special Forces Group. This BRAC directed action resulted in a planned net gain of approximately 4,000 additional military, civilian, and contractor personnel (not including family members) at Eglin AFB. As a result, the Air Force conducted a new housing requirements analysis and issued its third EIS iteration, the Supplemental Draft EIS in Aug 2008 (Federal Register/Vol. 73, No. 154, pg. 46269/August 8, 2008). The third iteration analyzed the potential consequences from housing alternatives limited exclusively to the main base areas of Eglin AFB or Hurlburt Field due to a shortfall in project financials associated with hurricane-related increases in construction/insurance costs.

Scoping: In order to effectively define the full range of issues to be evaluated in the EIS, the Air Force will determine the scope of the EIS (i.e., what will be covered and in what detail) by soliciting scoping comments from interested state and federal agencies and interested members of the public through the Federal Register and various media in the local areas of concern. Scoping comments should be submitted to the address below by the date indicated. The Air Force will also hold a series of scoping meetings to further solicit input regarding the scope of the proposed action and alternatives.

DATES: Three scoping meetings will be held in the potentially impacted communities. The scheduled dates, times, locations and addresses for the meetings will be published in local media a minimum of 15 days prior to the scoping meetings. The Air Force intends to hold scoping meetings in the following communities: Crestview, FL; Ft Walton Beach, FL; and Niceville, FL.

In addition to comments received at the scoping meetings, any written comments on the scope of the proposed EIS should be provided to the address below by Friday, February 1, 2010.

FOR FURTHER INFORMATION PLEASE CONTACT: Mike Spaits, Eglin AFB Public Affairs Office, 101 West D Avenue, Suite 110, Eglin Air Force Base, FL 32542-5499, phone (850) 882-2836, e-mail: mike.spaits@eglin.af.mil or check the Web site, http://www.eglin.af.mil/housing_privatization/index.asp.

Bao-Anh Trinh,
YA-3, DAF, Air Force Federal Register Liaison Officer.

[FR Doc. E9-30980 Filed 12-29-09; 8:45 am]

BILLING CODE 5001-05-P